DEPARTMENT OF EDUCATION

[Docket No. ED-2022-SCC-0021]

Agency Information Collection Activities; Submission to the Office of Management and Budget for Review and Approval; Comment Request; Program for the International Assessment of Adult Competencies (PIAAC) Cycle II 2022 Main Study

AGENCY: Institute of Educational Sciences (IES), National Center for Education Statistics (NCES), Department of Education (ED).

ACTION: Notice.

SUMMARY: In accordance with the Paperwork Reduction Act of 1995, ED is proposing a revision of a currently approved information collection.

DATES: Interested persons are invited to submit comments on or before June 30, 2022.

ADDRESSES: Written comments and recommendations for proposed information collection requests should be sent within 30 days of publication of this notice to www.reginfo.gov/public/do/PRAMain. Find this information collection request by selecting “Department of Education” under “Currently Under Review,” then check “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

Comments may also be sent to ICDocketmgr@ed.gov.

FOR FURTHER INFORMATION CONTACT: For specific questions related to collection activities, please contact Carrie Clarady, 202-245-6347.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Program for the International Assessment of Adult Competencies (PIAAC) Cycle II 2022 Main Study.

OMB Control Number: 1850-0870.

Type of Review: Revision of a currently approved information collection.

Respondents/Affected Public: Individuals and Households.

Total Estimated Number of Annual Responses: 30,857.

Total Estimated Number of Annual Burden Hours: 9,726.

Abstract: The Program for the International Assessment of Adult Competencies (PIAAC) is a cyclical, large-scale study of adult skills and life experiences focusing on education and employment. PIAAC is an international study designed to assess adults in different countries over a broad range of abilities, from simple reading to complex problem-solving skills, and to collect information on individuals' skill use and background. The U.S. will administer the PIAAC 2022 assessment to a nationally representative sample of adults, along with a background questionnaire with questions about their education background, work history, the skills they use on the job and at home, their civic engagement, and sense of their health and well-being. The results are used to compare the skills capacities of the workforce-aged adults in participating countries, and to learn more about relationships between educational background, employment, and other outcomes. PIAAC is coordinated by the Organization for Economic Cooperation and Development (OECD) and developed by participating countries with the support of the OECD. In the United States, the National Center for Education Statistics (NCES), within the U.S. Department of Education (ED) conducts PIAAC. NCES has contracted with Westat to administer the PIAAC Cycle II Field Test data collection in the U.S. The United States participated in the PIAAC Main Study data collection in 2012 and conducted national supplement data collections in 2014 and 2017. All three of these collections are part of PIAAC Cycle I, in which 39 countries participated (24 countries in 2012, 9 new countries in 2014, and 5 more new countries in 2017) with close to 200,000 adults assessed across the 39 countries over the three data collections. A new PIAAC cycle is to be conducted internationally every 10 years, and PIAAC Cycle II Main Study data collection will be conducted from September 2022 through April 2023. In preparation for the main study collection, PIAAC Cycle II began with an Operational Field Test in 2021, in which 34 countries are expected to participate with the primary goal of testing the PIAAC 2022 planned operations. In recognition of the continuing global pandemic OECD shifted the timeline of PIAAC Cycle II Field Test and Main Study. Originally, the Field Test was scheduled for 2020 and the Main Study for 2021. The first shift in timeline was to move the Field Test to 2021 and the Main Study to 2022. The second shift in the PIAAC Cycle II collection affected the timing and nature of the field test, which was operational only and included a reduced field test effort both in scope and in sampling. In addition, the reduced Operational Field Test shifted the timeline from April through June 2021 to June through August 2021. This submission describes the final plans for the administration of the PIAAC Cycle II 2022 Main Study. As the OECD is still working to finalize some materials for this study, the Appendices will be updated with final materials before the 30D public comment period.

Dated: May 25, 2022.
Stephanie Valentine,
PRA Coordinator, Strategic Collections and Clearance, Governance and Strategy Division, Office of Chief Data Officer, Office of Planning, Evaluation and Policy Development.

[FR Doc. 2022-11607 Filed 5-27-22; 8:45 am]

BILLING CODE 4000-01-P